DEPARTMENT OF JUSTICE

Foreign Claims Settlement Commission

[OMB Number 1105-NEW]

Agency Information Collection Activities: Proposed Collection; Comments Requested

ACTION: 60-Day Emergency Notice of Information Collection Under Review: Filing of Information Requesting Compensation for Settled Physical Injury Claims Against the Government of Libya and Referred to the Foreign Claims Settlement Commission by the Department of State.

The Department of Justice, Foreign Claims Settlement Commission (Commission), will be submitting the following information collection request to the Office of Management and Budget (OMB) for review and clearance in accordance with emergency review procedures of the Paperwork Reduction Act of 1995. OMB approval has been requested by February 18, 2009. The proposed information collection is published to obtain comments from the public and affected agencies. If granted, the emergency approval is only valid for 180 days. Comments should be directed to OMB, Office of Information and Regulation Affairs, Attention: Department of Justice Desk Officer, Washington, DC 20503. Comments are encouraged and will be accepted for 60 days until March 16, 2009.

During the first 60 days of this same review period, a regular review of this information collection is also being undertaken. All comments and suggestions, or questions regarding additional information, including obtaining a copy of the proposed information collection instrument with instructions, should be directed to Judith Lock, Foreign Claims Settlement Commission, Department of Justice, 600 E Street, NW., Suite 6002, Washington DC 20579, or by facsimile (202) 616-6993.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information:

(1) Type of information collection: New Collection.

(2) The title of the form/collection: Claims of U.S. Nationals Against Libya.

(3) The agency form number, if any, and the applicable component of the department sponsoring the collection: Form Number: FCSC 1-08. Foreign Claims Settlement Commission, Department of Justice.

(4) Affected public who will be asked or required to respond, as well as a brief abstract: Primary: Individuals. Other: None. Information will be used as a basis for determining eligibility of U.S. nationals with physical injury claims for awards payable by the Department of Treasury out of funds provided pursuant to the U.S.-Libya Claims Settlement Agreement for certain terrorism-related claims against Libya, its agencies and instrumentalities, and officials and employees thereof, and referred to the Commission by the Department of State.

(5) An estimate of the total number of respondents and the amount of time estimated for an average respondent to respond/reply: It is estimated that 100 respondents will complete the application in approximately two hours.

(6) An estimate of the total public burden (in hours) associated with the collection: The estimated total annual public burden associated with this application is 200 hours.

If additional information is required contact: Lynn Bryant, Department Clearance Officer, United States Department of Justice, Justice Management Division, Policy and Planning Staff, Patrick Henry Building, Suite 1600, 601 D Street, NW., Washington, DC 20530.

Dated: January 9, 2009.
Lynn Bryant,
Department Clearance Officer, PRA, United States Department of Justice.

[FR Doc. E9-738 Filed 1-14-09; 8:45 am]

BILLING CODE 4410-BA-P